DEPARTMENT OF DEFENSE

Office of the Secretary

[Docket ID DOD-2016-OS-0057]

Submission for OMB Review; Comment Request

AGENCY: Office of the Under Secretary of Defense for Personnel and Readiness, DoD.

ACTION: 30-Day information collection notice.

SUMMARY: The Department of Defense has submitted to OMB for clearance, the following proposal for collection of information under the provisions of the Paperwork Reduction Act.

DATES: Consideration will be given to all comments received by October 23, 2017.

ADDRESSES: Comments and recommendations on the proposed information collection should be emailed to Ms. Jasmeet Seehra, DoD Desk Officer, at Oira_submission@omb.eop.gov. Please identify the proposed information collection by DoD Desk Officer and the Docket ID number and title of the information collection.

FOR FURTHER INFORMATION CONTACT: Fred Licari, 571-372-0493, or whs.mc-alex.esd.mbx.dd-dod-information-collections@mail.mil.

SUPPLEMENTARY INFORMATION:

Title, Associated Form and OMB Number: DoD Postsecondary Education Complaint Intake Form, DD Form 2961; OMB Control Number 0704-0501.

Type of Request: Reinstatement.

Number of Respondents: 63.

Responses per Respondent: 1.

Annual Responses: 63.

Average Burden per Response: 15 minutes.

Annual Burden Hours: 16.

Needs and Uses: The information collection requirement is necessary to obtain, document, and respond to egregious complaints, questions, and other information concerning actions post-secondary education programs and services provided to military service members and spouse-students. The DoD Postsecondary Education Complaint Intake form will provide pertinent information such as: the content of the complaint, the educational institution the student is attending, the level of study, the education program the student is enrolled in, the type of education benefits being used, the branch of the military service, and the preferred contact information.

Affected Public: Individuals or households; business or other for-profits; not-for-profit institutions.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 03F09, Alexandria, VA 22350-3100.

Dated: September 19, 2017.
Aaron Siegel,
Alternate OSD Federal Register Liaison Officer, Department of Defense.

[FR Doc. 2017-20274 Filed 9-21-17; 8:45 am]

BILLING CODE 5001-06-P